DEPARTMENT OF LABOR

Employment and Training Administration

Virtual Public Meeting of the Reestablished Advisory Committee on Apprenticeship (ACA)

AGENCY: Employment and Training Administration (ETA), Labor.

ACTION: Notice of a virtual public meeting.

SUMMARY: Pursuant to the Federal Advisory Committee Act (FACA), notice is hereby given to announce a public meeting of the ACA to be held virtually on October 6, 2021. All meetings of the ACA are open to the public.

DATES: The meeting will begin at 3:30 p.m. Eastern Standard Time on October 6, 2021, at https://www.workforcegps.org/events/2021/09/13/17/41/Public-Meeting-of-the-Advisory-Committee-on-Apprenticeship-ACA, and adjourn at 5:00 p.m. Any updates to the agenda and meeting logistics will be posted on the Office of Apprenticeship's website at: https://www.apprenticeship.gov/advisory-committee-apprenticeship.

FOR FURTHER INFORMATION CONTACT: The Designated Federal Officer, Mr. John V. Ladd, Administrator, Office of Apprenticeship, Employment and Training Administration, U.S. Department of Labor, 200 Constitution Avenue NW, Room C-5321, Washington, DC 20210; Email: AdvisoryCommitteeonApprenticeship@dol.gov; Telephone: (202) 693-2796 (this is not a toll-free number).

SUPPLEMENTARY INFORMATION: The ACA is a discretionary committee reestablished by the Secretary of Labor, in accordance with FACA (5 U.S.C. App. 2 § 10), as amended in 5 U.S.C. App. 2, and its implementing regulations (41 CFR 101-6 and 102-3). The first public meeting of the reestablished ACA will be held on October 6, 2021. In order to promote openness, and increase public participation, webinar and audio conference technology will be used to convene the meeting. Webinar and audio instructions will be posted prominently on the Office of Apprenticeship's website at: https://www.apprenticeship.gov/advisory-committee-apprenticeship.

Notice of Intent To Attend the Meeting

All meeting participants must register by September 29, 2021, via https://www.workforcegps.org/events/2021/09/13/17/41/Public-Meeting-of-the-Advisory-Committee-on-Apprenticeship-ACA. If individuals have special needs and/or disabilities that will require special accommodations, please contact Kenya Huckaby at (202) 693-3795 or via email at huckaby.kenya@dol.gov no later than September 29, 2021.

1. Any member of the public who wishes to file written data or comments pertaining to the agenda may do so by sending the data or comments to Mr. John V. Ladd via email at AdvisoryCommitteeonApprenticeship@dol.gov, subject line “October 6, 2021 ACA Meeting.” Such submissions will be included in the record for the meeting if received by September 29, 2021.

2. See below regarding members of the public wishing to speak at the ACA meeting.

Purpose of the Meeting and Topics To Be Discussed

The purpose of the October 6, 2021, meeting is to explore apprenticeship priorities in the upcoming year. The agenda topics for this meeting include the following:

• Diversity, Equity, and Inclusion in Registered Apprenticeship

• Expansion into New Industries

• Registered Apprenticeship Modernization

• Pre-Apprenticeship, Youth Apprenticeship, Degreed Apprenticeships and Other Models

• Public Comment

• Adjourn

The agenda and meeting logistics may be updated should priority items come before the ACA between the time of this publication and the scheduled date of the ACA meeting. All meeting updates will be posted to the Office of Apprenticeship's website at: https://www.apprenticeship.gov/advisory-committee-apprenticeship. Any member of the public who wishes to speak at the meeting should indicate the nature of the intended presentation and the amount of time needed by furnishing a written statement to the Designated Federal Officer, Mr. John V. Ladd, via email at AdvisoryCommitteeonApprenticeship@dol.gov, by September 29, 2021. The Chairperson will announce at the beginning of the meeting the extent to which time will permit the granting of such requests.

Lenita Jacobs-Simmons,
Acting Assistant Secretary for Employment and Training, Labor.

[FR Doc. 2021-20397 Filed 9-20-21; 8:45 am]

BILLING CODE 4510-FR-P